DEPARTMENT OF DEFENSE

Department of the Air Force

[Docket ID USAF-2012-0027]

Privacy Act of 1974; System of Records

AGENCY: Department of the Air Force, DoD.

ACTION: Notice to Alter a System of Records.

SUMMARY: The Department of the Air Force proposes to alter a system of records notice to its existing inventory of records systems subject to the Privacy Act of 1974 (5 U.S.C. 552a), as amended.

DATES: This proposed action will be effective on December 31, 2012 unless comments are received which result in a contrary determination. Comments will be accepted on or before December 31, 2012.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended were submitted on November 20, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: November 26, 2012.
Aaron Siegel,
Alternate OSD Federal Register Liaison Officer, Department of Defense.

F036 AF PC L

System Name:

Unfavorable Information Files (UIF) (June 29, 1999, 64 FR 34789).

Changes:

System ID:

Delete entry and replace with “F036 AFPC L”.

* * * * *

System Location:

Delete entry and replace with “Complete UIFs are maintained in the Military Personnel Section (MPS), Headquarters Air Reserve Personnel Center (HQ ARPC), 18420 E. Silver Creek, Bldg #390 MS 68, Buckley AFB, CO 80011-9502 or HQ Air National Guard Readiness Center (HQ ANGRC), 3500 Fetchet Avenue, Andrews AFB MD 20762-5157 or Base Military Person Sections; Official mailing addresses are published as an appendix to the Air Force's compilation of systems of records notices.”

Categories of individuals covered by the system:

Delete entry and replace with “Air Force Active Duty, Reserve and Air National Guard personnel.”

Categories of records in the system:

Delete entry and replace with “Name, Social Security Number (SSN) and/or DoD Identification Number (DoD ID Number), date of birth, rank and grade, written admonitions or reprimands; court-martial orders; letters of indebtedness, or control roster correspondence and drug/alcohol abuse correspondence.”

Authority for maintenance of the system:

Delete entry and replace with “10 U.S.C. 8013, Department of the Air Force; 10 U.S.C. Sections 885, 886, and 887 (UCMJ Articles 85, 86, and 87) allows authorities to collect and maintain this information by Air Force Instruction 36-2907, Unfavorable Information File (UIF) Program and E.O. 9397 (SSN), as amended.”

* * * * *

Storage:

Delete entry and replace with “Maintained in secured file binders/cabinets and electronic storage media.”

* * * * *

Safeguards:

Delete entry and replace with “Records are accessed by person(s) responsible for servicing the records system in performance of their official duties and by authorized personnel who are properly screened and cleared for need-to-know. Records are stored in file cabinets in a locked building with controlled access entry requirements. Electronic files are only accessed by authorized personnel with a secure Common Access Card (CAC) and an official need to need-to-know.”

Notification procedures:

Delete entry and replace with “Individuals seeking to determine whether this system of records contains information about themselves should address written inquiries to the servicing Military Personnel Section, Headquarters Air Reserve Personnel Center or Headquarters Air National Guard Readiness Center. Official mailing addresses are published as an appendix to the Air Force's compilation of systems of records notices.

For verification purposes, individual should provide their full name, SSN and/or DoD ID Number, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to the servicing Military Personnel Section, Headquarters Air Reserve Personnel Center or Headquarters Air National Guard Readiness Center. Official mailing addresses are published as an appendix to the Air Force's compilation of systems of records notices.

For verification purposes, individual should provide their full name, SSN and/or DoD ID Number, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

[FR Doc. 2012-28899 Filed 11-28-12; 8:45 am]

BILLING CODE 5001-06-P